FEDERAL TRADE COMMISSION

16 CFR Ch. I

Semiannual Regulatory Agenda

AGENCY: Federal Trade Commission.

ACTION: Semiannual Regulatory Agenda.

SUMMARY: The Federal Trade Commission (FTC or Commission) is publishing its semiannual regulatory agenda in accordance with section 22(d)(1) of the Federal Trade Commission Act, 15 U.S.C. 57b-3(d)(1) and the Regulatory Flexibility Act (RFA), 5 U.S.C. 601 to 612, as amended by the Small Business Regulatory Enforcement Fairness Act.

SUPPLEMENTARY INFORMATION: The Commission's agenda follows guidelines and procedures issued March 26, 2025, by the Office of Management and Budget in accordance with the provisions of Executive Order (E.O.) 12866, “Regulatory Planning and Review,” of September 30, 1993, 58 FR 51735 (Oct. 4, 1993).¹

¹ E.O. 14215 “Ensuring Accountability for All Agencies” (90 FR 10447 (Feb. 18, 2025)), among other items, requires independent agencies to submit to the Office of Management and Budget for review all significant proposed and final regulatory actions pursuant to E.O. 12866 Section 6.

The Government-wide Unified Agenda of Federal Regulatory and Deregulatory Actions includes a list of all regulatory actions under development or review and is scheduled for publication in its entirety on www.reginfo.gov and www.regulations.gov in a format that offers users a greatly enhanced ability to obtain information from the agenda database.

The RFA requires publication in the Federal Register of agenda entries for rules that are likely to have a significant impact on a substantial number of small entities (5 U.S.C. 602) and any such rules that the agency has identified for periodic review under section 610 of the RFA. For spring 2025, the Commission has one rule, the Unfair or Deceptive Fees Trade Regulation Rule, 16 CFR 464, that meets the RFA's publication requirements. In addition, the Commission has rules or rulemakings that would be a “significant regulatory action” under the definition in Executive Order 12866, including: the Unfair or Deceptive Fees Trade Regulation Rule, 16 CFR 464; the amendments to the Premerger Notification Rules and Report Form, found at 16 CFR 801-803 and relating to substantive HSR form changes, including implementing congressionally-mandated reporting requirements on foreign subsidies; the Non-Compete Clause Rule, 16 CFR 910, a rule that is subject to ongoing litigation, and the Combating Auto Retail Scams Trade Regulation Rule, a rule that has since been vacated by the courts and which was to have otherwise been codified at 16 CFR 463.

The Commission has identified rulemakings that are likely to have some impact on small entities, but do not meet the RFA's publication requirements. The current rulemakings that are likely to have some impact on small entities are: (1) the Energy Labeling Rule, 16 CFR 305; (2) the Alternative Fuels Rule, 16 CFR 309; (3) the Telemarketing Sales Rule, 16 CFR 310; (4) the Children's Online Privacy Protection Rule, 16 CFR 312; (5) the Negative Option Rule, 16 CFR 425; (6) the Cooling-Off Rule, 16 CFR 429; (7) the Franchise Rule, 16 CFR 436; (8) the Business Opportunity Rule, 16 CFR 437; (9) the Funeral Rule, 16 CFR 453; (10) the Trade Regulation Rule on Impersonation of Government and Businesses, 16 CFR 461; (11) the Identity Theft Rules, 16 CFR 681; (12) the proposed Trade Regulation Rule on Earnings Claims, to be codified at 16 CFR 462; (13) the potential Trade Regulation Rule on Commercial Surveillance, 87 FR 51273 (Aug. 22, 2022); and (14) the Trade Regulation Rule on Unfair and Deceptive Fees, 16 CFR 464.

This agenda reflects only deregulatory plans already announced by the Commission. In line with the President's Executive Orders 14192, “Unleashing Prosperity Through Deregulation,” 90 FR 9065 (Feb. 6, 2025), and 14219, “Ensuring Lawful Governance and Implementing the President's “Department of Government Efficiency” Deregulatory Initiative,” 90 FR 10583 (Feb. 25, 2025), the Commission is considering further deregulatory actions not reflected in this agenda. The Commission's rulemaking review process carefully considers regulatory burdens and streamlines rules when feasible and appropriate. In particular, the Commission intends to review decades-old rules to determine whether they are obsolete and could be narrowed or rescinded.

The majority of the rulemakings listed in the agenda are being conducted as part of the Commission's systematic review of all of its regulations and guides on a rotating basis. Under the Commission's program, rules are reviewed on a 10-year schedule. In each rule review, the Commission requests public comments on, among other things, the economic impact and benefits of the rule; possible conflict between the rule and state, local, or other federal laws or regulations; and the effect on the rule of any technological, economic, or other industry changes. These reviews incorporate and expand upon the review required by the RFA and regulatory reform initiatives directing agencies to conduct a review of all regulations and eliminate or revise those that are outdated or otherwise in need of reform.

Except for notice of completed actions, the information in this agenda represents the judgment of Commission staff, based upon information now available. Each projected date of action reflects FTC staff's assessment that the specified event will occur this year. No final determination by the staff or the Commission respecting the need for or the substance of a rule should be inferred from the notation of projected events in this agenda. In most instances, the dates of future events are listed by month, not by a specific day. The information in this agenda may change as new information, changes of circumstances, or changes in the law occur.

FOR FURTHER INFORMATION CONTACT: For information about specific regulatory actions listed in the agenda, call, email, or write the contact person listed for each particular proceeding. General comments or questions about the agenda should be directed to G. Richard Gold; Attorney, Federal Trade Commission, 600 Pennsylvania Avenue NW, Washington, DC 20580, telephone: (202) 326-3355; email: rgold@ftc.gov.

By direction of the Commission.
April J. Tabor,
Secretary.

Federal Trade Commission—Final Rule Stage
Sequence No. | Title | Regulation Identifier No.
307 | Non-Compete Clause Rule | 3084-AB74

Federal Trade Commission—Completed Actions
Sequence No. | Title | Regulation Identifier No.
308 | Unfair or Deceptive Fees Trade Regulation Rule | 3084-AB77

Federal Trade Commission (FTC) | Final Rule Stage

307. NON-COMPETE CLAUSE RULE [3084-AB74]

Legal Authority: 15 U.S.C. 41 to 58

Abstract: On January 19, 2023, the Commission proposed the Non-Compete Clause Rule. 88 FRS 3482 (Jan. 19, 2023). The comment period as extended closed on April 19, 2023, 88 FR 20441 (Apr. 6, 2023), and the Commission received over 26,000 public comments. The Commission issued a final rule on May 7, 2024. 89 FR 38342 (May 7, 2024). The Non-Compete Clause Rule provides that it is an unfair method of competition and therefore a violation of section 5 of the Federal Trade Commission Act for persons to, among other things, enter into or attempt to enter into non-compete clauses with workers on or after the final rule's effective date. On August 15, 2024, a federal district court in Florida issued a decision granting a stay and enjoining the FTC's enforcement of the Rule against the plaintiff in that case. On August 20, 2024, a federal district court in Texas issued a similar order, which had a nationwide effect of stopping the FTC from enforcing the rule on September 4, 2024, the rule's effective date. On March 7, 2025, the federal government filed motions for a 120-day stay of its challenges in the U.S. Court of Appeals for the Fifth and Eleventh Circuits. The appeals courts are considering the lower federal court rulings in Texas and Florida that invalidated or enjoined, respectively, the Biden-era FTC rule that would have banned nearly all noncompete agreements. The Rule is under review.

Timetable:

Action | Date | FR Cite
NPRM | 01/19/23 | 88 FR 3482
NPRM Comment Period Extended | 04/06/23 | 88 FR 20441
NPRM Extended Comment Period End | 04/19/23
Final Rule | 05/07/24 | 89 FR 38342
Final Rule Effective Date—stayed | 09/04/24
Motion to Stay Ruling for 120 Days | 03/21/25
FTC Files Status Report With Court | 07/00/25

Regulatory Flexibility Analysis Required: Yes

Agency Contact: Clarke Edwards, Acting Director, Office of Policy Planning, Federal Trade Commission, 600 Pennsylvania Avenue NW, Washington, DC 20580

Phone: 202 326-2097

Email: cedwards@ftc.gov

RIN: 3084-AB74

Federal Trade Commission (FTC) | Completed Actions

308. UNFAIR OR DECEPTIVE FEES TRADE REGULATION RULE [3084-AB77]

Legal Authority: 15 U.S.C. secs. 41 to 58

Abstract: On November 8, 2022, the Federal Trade Commission issued an advance notice of proposed rulemaking to address certain deceptive or unfair acts or practices relating to fees. 87 FR 67413 (Nov. 8, 2022). A Commission rule codifying prohibitions against or limitations on certain kinds of prevalent unfair or deceptive fee practices protects the American people and brings greater price transparency to the marketplace. The Commission solicited written comment, data, and argument concerning the need for such a rulemaking to prevent persons, entities, and organizations from imposing such fees on consumers. The public comment period as extended closed on February 8, 2023.

On November 9, 2023, the Commission issued a notice of proposed rulemaking to promulgate a trade regulation rule to prohibit unfair or deceptive practices relating to fees for goods or services, specifically, misrepresenting the total costs of goods and services by omitting mandatory fees from advertised prices and misrepresenting the nature and purpose of fees. 88 FR 77420 (Nov. 9, 2023). The extended public comment period closed on February 7, 2024. On April 24, 2024, the Commission held an informal hearing at the request of eight commenters. Seventeen commenters participated at the informal hearing.

On January 10, 2025, the Commission issued the Final Rule, which requires that businesses clearly and conspicuously disclose the true total price inclusive of all mandatory fees whenever they offer, display, or advertise any price of live-event tickets or short-term lodging. Businesses cannot misrepresent any fee or charge in any offer, display, or ad for live-event tickets or short-term lodging. 90 FR 2066 (Jan. 10, 2025). The Rule was effective on May 12, 2025.

Timetable:

Action | Date | FR Cite
ANPRM | 11/08/22 | 87 FR 67413
ANPRM Extended Comment Period End | 02/08/23 | 88 FR 4796
NPRM | 11/09/23 | 88 FR 77420
NPRM Comment Period Extended | 01/02/24 | 89 FR 38
NPRM Extended Comment Period End | 02/07/24
Notice of Informal Hearing | 03/27/24 | 89 FR 21216
Informal Hearing | 04/24/24
Final Rule | 01/10/25 | 90 FR 2066
Final Rule Effective Date | 05/12/25

Regulatory Flexibility Analysis Required: Yes

Agency Contact: Janice Kopec, Attorney, Federal Trade Commission, 600 Pennsylvania Avenue NW, Washington, DC 20580

Phone: 202 326-2550

Email: jkopec@ftc.gov

Edwin Rodriguez, Attorney, Federal Trade Commission, 600 Pennsylvania Avenue NW, Washington, DC 20580

Phone: 202 326-3147

Email: erodriguez@ftc.gov

RIN: 3084-AB77

[FR Doc. Filed 08-18-25; 0:00 a.m.]

BILLING CODE 6750-01-P

[FR Doc. 2025-18319 Filed 9-19-25; 8:45 am]

BILLING CODE 6750-01-P